NUCLEAR REGULATORY COMMISSION

Sunshine Act Meeting

Agency Holding the Meeting: Nuclear Regulatory Commission.

Date: Weeks of May 24, 31, June 7, 14, 21, 28, 2004.

Place: Commissioners' Conference Room, 11555 Rockville Pike, Rockville, Maryland.

Status: Public and closed.

Matters to be considered:

Week of May 24, 2004

Tuesday, May 25, 2004

2 p.m. Discussion of Management Issues (Closed—Ex. 2)

Wednesday, May 26, 2004

10:30 a.m. All Employees Meeting (Public Meeting)

All Employees Meeting (Public Meeting)

Week of May 31, 2004—Tentative

Wednesday, June 2, 2004

9:30 a.m. Briefing on Equal Employment Opportunity Program (Public Meeting) (Contact: Corenthis Kelley, 301-415-7380)

This meeting will be webcast live at the Web address— www.nrc.gov

1:30 p.m. Meeting with Advisory Committee on Reactor Safeguards (ACRS) (Public Meeting) (Contact: John Larkins, 301-415-7360)

This meting will be webcast live at the Web address— www.nrc.gov

Week of June 7, 2004—Tentative

Thursday, June 10, 2004

1:30 p.m. Discussion of Security Issues (Closed—Ex. 1)

Week of June 14, 2004—Tentative

There are no meetings scheduled for the Week of June 14, 2004.

Week of June 21, 2004—Tentative

There are no meetings scheduled for the Week of June 21, 2004.

Week of June 28, 2004—Tentative

There are no meetings scheduled for the Week of June 28, 2004.

*The schedule for Commission meetings is subject to change on short notice. To verify the status of meetings call (recording)—(301) 215-1292. Contact person for more information: Dave Gamberoni, (301) 415-1651.

* * * * *

Additional Information

By a vote of 3-0 on May 14 and 18, the Commission determined pursuant to U.S.C. 552b(e) and § 9.107(a) of the Commission's rules that “Discussion of Security Issues (Closed—Ex. 1)” be held May 20, and on less than one week's notice to the public.

By a vote of 3-0 on May 19 and 20, the Commission determined pursuant to U.S.C 552b(e) and § 9.107(a) of the Commission's rules that “Affirmation of (1) Nuclear Fuel Services, Inc. (Erwin, Tennessee); Appeal of LBP-04-05, the Presiding Officer's Ruling on Hearing Requests; (2) Hydro Resources, Inc. (Rio Rancho, New Mexico) Petitions for Review of LBP-04-03 (Financial Assurance); (3) Louisiana Energy Services, L.P. (National Enrichment Center); and (4) Final Rule to amend 10 CFR Part 2, Subpart J, in Regard to the Licensing Support Network” be held on May 20, and on less than one week's notice to the public.

* * * * *

The NRC Commission Meeting Schedule can be found on the Internet at: www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 20, 2004.
Dave Gamberoni,
Office of the Secretary.

[FR Doc. 04-11852 Filed 5-21-04; 9:35 am]

BILLING CODE 7590-01-M